DEPARTMENT OF THE TREASURY

Internal Revenue Service

26 CFR Part 1

[REG-120653-22]

RIN 1545-BQ54

Advanced Manufacturing Investment Credit; Correction

AGENCY: Internal Revenue Service (IRS), Treasury.

ACTION: Correction to a notice of proposed rulemaking.

SUMMARY: This document contains corrections to a notice of proposed rulemaking (REG-120653-22) that was published in the Federal Register on Thursday, March 23, 2023. The proposed rulemaking published in March contains proposed regulations to implement the advanced manufacturing investment credit established by the CHIPS Act of 2022 to incentivize the manufacture of semiconductors and semiconductor manufacturing equipment within the United States.

DATES: Written or electronic comments and requests for a public hearing are still being accepted and must be received by May 22, 2023.

ADDRESSES: Commenters are strongly encouraged to submit public comments electronically. Submit electronic submissions via the Federal eRulemaking Portal at www.regulations.gov (indicate IRS and REG-120653-22) by following the online instructions for submitting comments. Once submitted to the Federal eRulemaking Portal, comments cannot be edited or withdrawn. The Department of the Treasury (Treasury Department) and the IRS will publish for public availability any comment submitted electronically and on paper, to its public docket. Send paper submissions to: CC:PA:LPD:PR (REG-120653-22), Room 5203, Internal Revenue Service, P.O. Box 7604, Ben Franklin Station, Washington, DC 20044.

FOR FURTHER INFORMATION CONTACT: Concerning the proposed regulations, Jason P. Deirmenjian of the Office of Associate Chief Counsel (Passthroughs and Special Industries), (202) 317-4137 (not a toll-free number); concerning submissions of comments and requests for a public hearing, call Vivian Hayes (202) 317-5306 (not a toll-free number) or by email to publichearings@irs.gov (preferred).

SUPPLEMENTARY INFORMATION:

Background

The notice of proposed rulemaking that is the subject of this document is under section 48D of the Internal Revenue Code.

Need for Correction

As published, the notice of proposed rulemaking (REG-120653-22) contains errors that need to be corrected.

Correction of Publication

Accordingly, the notice of proposed rulemaking (REG-120653-22), which was the subject of FR Doc. 2023-05871, published March 23, 2023, at 88 FR 17451, is corrected as follows:

1. On page 17455, in the third column, first partial paragraph, line 19 from the bottom of the paragraph, the language “of concern, and” should be corrected to read “of concern; and”.

2. On page 17455, in the third column, the heading “IV. Applicability Date” is corrected to read as “VII. Applicability Date”.

§ 1.48D-0 [Corrected]

3. On page 17457, in the first column, the entry for § 1.48D-4(c)(3)(i) is corrected to read “Example 1: Primary purpose.”.

4. On page 17457, in the second column, the entry for § 1.48D-4(c)(3)(ii) is corrected to read “Example 2: Primary purpose.”.

§ 1.48D-2 [Corrected]

5. On page 17458, in the first column, the third line of paragraph (c), the language “the the basis of the qualified property” is corrected to read “the basis of the qualified property”.

§ 1.48D-4 [Corrected]

6. On page 17460, in the third column, the heading for paragraph (c)(3)(i) is corrected to read “Example 1: Primary purpose.”.

7. On page 17461, in the first column, the heading of paragraph (c)(3)(ii) is corrected to read as “Example 2: Primary purpose.”.

§ 1.48D-6 [Corrected]

8. On page 17464, in the second column, paragraph (d)(3)(i), the sixth line, the language “48D(d)(2)(A)(I)(i)” is corrected to read “48D(d)(2)(A)(i)(I)”.

Oluwafunmilayo A. Taylor,
Branch Chief, Publications and Regulations Branch, Legal Processing Division, Associate Chief Counsel (Procedure and Administration).

[FR Doc. 2023-07987 Filed 4-14-23; 8:45 am]

BILLING CODE 4830-01-P